DEPARTMENT OF ENERGY

Federal Energy Regulatory Commission

[Docket No. RP01-3-000]

Dominion Transmission Inc.; Notice of Termination of Service

October 4, 2000.

Take notice that on October 2, 2000, Dominion Transmission, Inc. (DTI) tendered for filing a notice of termination of service of uncertificated gathering lines in North Mahoning Township, Indiana County, Pennsylvania. The proposed effective date of the termination is November 1, 2000.

DTI states that the lines for which termination of service is being requested are being sold to Dominion E & P. The date will also be the effective date of the abandonment by sale to Dominion E & P. DTI states that the lines being abandoned are listed in Exhibit A attached to the filing.

DTI states that copies of the filing have been sent to the affected producers, which are listed on Exhibit A. DTI also states that copies of the filing are being mailed to DTI's customers and interested state commissions.

Any person desiring to be heard or to protest said filing should file a motion to intervene or a protest with the Federal Energy Regulatory Commission, 888 First Street, NE, Washington, DC 20426, in accordance with Sections 385.214 or 385.211 of the Commission's Rules and Regulations. All such motions or protests must be filed on or before October 12, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.us/online/rims.htm (call 202-208-2222 for assistance).

Linwood A. Watson, Jr.,
Acting Secretary.

[FR Doc. 00-26053 Filed 10-10-00; 8:45 am]

BILLING CODE 6717-01-M